DEPARTMENT OF THE TREASURY

Office of Foreign Assets Control

Sanctions Actions Pursuant to Executive Order of March 8, 2015, “Blocking Property and Suspending Entry of Certain Persons Contributing to the Situation in Venezuela”

AGENCY: Office of Foreign Assets Control, Department of the Treasury.

ACTION: Notice.

SUMMARY: The U.S. Department of the Treasury's Office of Foreign Assets Control (OFAC) is publishing the names of persons whose property and interests in property are blocked pursuant to the executive order of March 8, 2015, “Blocking Property and Suspending Entry of Certain Persons Contributing to the Situation in Venezuela.”

DATES: OFAC's actions described in this notice were effective on May 18, 2017.

FOR FURTHER INFORMATION CONTACT: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The list of Specially Designated Nationals and Blocked Persons (SDN List) and additional information concerning OFAC sanctions programs are available on OFAC's Web site at http://www.treasury.gov/ofac.

Notice of OFAC Actions

On May 18, 2017, OFAC's Acting Director determined that the property and interests in property of the following persons are blocked pursuant to Executive Order 13692, “Blocking Property and Suspending Entry of Certain Persons Contributing to the Situation in Venezuela.”

1. DAMIANI BUSTILLOS, Luis Fernando, Caracas, Capital District, Venezuela; DOB 27 Apr 1946; POB Caracas, Capital District, Venezuela; citizen Venezuela; Gender Male; Cedula No. 2940803 (Venezuela); Passport 103679620 (Venezuela); Magistrate of the Constitutional Chamber of Venezuela's Supreme Court of Justice (individual) [VENEZUELA]. Designated pursuant to section 1(a)(ii)(C) of Executive Order 13692, for being a current or former official of the Government of Venezuela.

2. DELGADO ROSALES, Arcadio de Jesus (Latin: DELGADO ROSALES, Arcadio de Jesús), Caracas, Capital District, Venezuela; DOB 23 Sep 1954; POB Maracaibo, Zulia, Venezuela; citizen Venezuela; Gender Male; Cedula No. 4159158 (Venezuela); Passport 001875223 (Venezuela); Vice President of the Constitutional Chamber of Venezuela's Supreme Court of Justice (individual) [VENEZUELA]. Designated pursuant to section 1(a)(ii)(C) of Executive Order 13692, for being a current or former official of the Government of Venezuela.

3. GUTIERREZ ALVARADO, Gladys Maria (Latin: GUTIÉRREZ ALVARADO, Gladys María), Caracas, Capital District, Venezuela; DOB 16 Apr 1962; POB Punto Fijo, Falcon, Venezuela; citizen Venezuela; Gender Female; Cedula No. 7525777 (Venezuela); Passport 1122011 (Venezuela); alt. Passport 4532006 (Venezuela); Magistrate of the Constitutional Chamber of Venezuela's Supreme Court of Justice; Former President of Venezuela's Supreme Court of Justice (individual) [VENEZUELA]. Designated pursuant to section 1(a)(ii)(C) of Executive Order 13692, for being a current or former official of the Government of Venezuela.

4. MENDOZA JOVER, Juan Jose (Latin: MENDOZA JOVER, Juan José), Valera, Trujillo, Venezuela; DOB 11 Mar 1969; POB Trujillo, Venezuela; citizen Venezuela; Gender Male; Cedula No. 9499372 (Venezuela); Second Vice President of Venezuela's Supreme Court of Justice; President of the Constitutional Chamber of Venezuela's Supreme Court of Justice (individual) [VENEZUELA]. Designated pursuant to section 1(a)(ii)(C) of Executive Order 13692, for being a current or former official of the Government of Venezuela.

5. MORENO PEREZ, Maikel Jose (Latin: MORENO PÉREZ, Maikel José), Caracas, Capital District, Venezuela; DOB 31 Dec 1965; POB Tigre, Anzoategui, Venezuela; citizen Venezuela; Gender Male; Cedula No. 6652632 (Venezuela); Passport 104063109 (Venezuela); alt. Passport 040471125 (Venezuela); President of Venezuela's Supreme Court of Justice; President of the Criminal Appellate Chamber of Venezuela's Supreme Court of Justice (individual) [VENEZUELA]. Designated pursuant to section 1(a)(ii)(C) of Executive Order 13692, for being a current or former official of the Government of Venezuela.

6. ORTEGA RIOS, Calixto Antonio (Latin: ORTEGA RÍOS, Calixto Antonio), Maracaibo, Zulia, Venezuela; DOB 12 Oct 1950; POB San Rafael del Mojan, Zulia, Venezuela; citizen Venezuela; Gender Male; Cedula No. 3264031 (Venezuela); Magistrate of the Constitutional Chamber of Venezuela's Supreme Court of Justice (individual) [VENEZUELA]. Designated pursuant to section 1(a)(ii)(C) of Executive Order 13692, for being a current or former official of the Government of Venezuela.

7. SUAREZ ANDERSON, Lourdes Benicia (Latin: SUÁREZ ANDERSON, Lourdes Benicia), Caracas, Capital District, Venezuela; DOB 07 Mar 1965; citizen Venezuela; Gender Female; Cedula No. 6726793 (Venezuela); Magistrate of the Constitutional Chamber of Venezuela's Supreme Court of Justice (individual) [VENEZUELA]. Designated pursuant to section 1(a)(ii)(C) of Executive Order 13692, for being a current or former official of the Government of Venezuela.

8. ZULETA DE MERCHAN, Carmen Auxiliadora (Latin: ZULETA DE MERCHÁN, Carmen Auxiliadora), Sucre, Miranda, Venezuela; DOB 13 Dec 1947; POB Zulia, Venezuela; citizen Venezuela; Gender Female; Cedula No. 3507807 (Venezuela); Passport 045729072 (Venezuela); Magistrate of the Constitutional Chamber of Venezuela's Supreme Court of Justice (individual) [VENEZUELA]. Designated pursuant to section 1(a)(ii)(C) of Executive Order 13692, for being a current or former official of the Government of Venezuela.

Dated: May 18, 2017.
Andrea M. Gacki,
Acting Director, Office of Foreign Assets Control.

[FR Doc. 2017-10614 Filed 5-23-17; 8:45 am]

BILLING CODE 4810-AL-P